DEPARTMENT OF AGRICULTURE

Forest Service

Umatilla National Forest, Walla Walla Ranger District, OR; North End Sheep Allotment EIS

AGENCY: Forest Service, USDA.

ACTION: Notice of intent to prepare an environmental impact statement.

SUMMARY: The Forest Service proposes to continue to permit livestock (sheep) grazing on approximately 98,000 acres within the North End Allotment. This action will comply with the Rescission Act of 1995 requiring NEPA analysis for all grazing allotments.

The North End Allotment is approximately 132,000 acres in size and is located in Umatilla, Wallowa, and Union Counties, Oregon. The large size makes for a diverse allotment of mountain uplands and plateaus dissected by large canyons. Approximately 75% of the allotment is forested vegetation with the remaining lands consisting of grasslands. Most of the allotment has been grazed by domestic sheep since the late 1800's and records show that the Forest Service has issued permits since the 1920's for the allotment. Since the current AMP was approved in 1986, it does not incorporate the changes that have occurred since the signing of the Forest Plan (1990), as amended. Also, the Rescission Act of 1995 (Pub. L. 104-19, Section 504) requires the Forest Service to identify all allotments requiring NEPA analysis, and to prepare and adhere to a schedule for conducting such analysis. However, the Annual Operating Instructions (AOI) ¹ for the allotment has been adjusted yearly to respond to these changes in management direction. The Forest Service proposes to continue to permit livestock grazing (sheep) on approximately 98,000 acres within the North End Allotment.

¹ A long term operating plan which is the implementing document for the decision made through the National Policy Act process that promotes progress toward desired future conditions.

Development and implementation of these actions will be conducted in accordance with the National Forest Management Act, National Environmental Policy Act, Council on Environmental Quality regulations, Clean Water Act, Clean Air Act, Endangered Species Act, and with the Umatilla National Forest Land and Resource Management Plan and scientific recommendations of the Interior Columbia Basin Ecosystem Management Project.

DATES: Comments concerning the scope of the analysis must be received by January 25, 2010. The Draft EIS is expected to be filed with the Environmental Protection Agency (EPA) and be available to the public for review by June 2010. The Final EIS is scheduled to be completed by September 2010.

ADDRESSES: Send written comments to Mike Rassbach, District Ranger, Walla Walla Ranger District,1415 W. Rose, Walla Walla, WA. Comments may also be sent via e-mail to comments-pacificnorthwest-umatilla-wallawalla@fs.fed.us, or via facsimile to 509-522-6000.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered; however, anonymous comments will not provide the respondent with standing to participate in subsequent administrative appeal or judicial review.

FOR FURTHER INFORMATION CONTACT: Kimpton Cooper, Environmental Coordinator, Walla Walla Ranger District, 1415 W. Rose, Walla Walla, WA 99362. He can be reached by phone at (509) 522-6290 or by e-mail at kmcooper@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need is to comply with the Rescission Act of 1995 requiring NEPA analysis on the North End Allotment. Also, part of the allotment is near occupied Rocky Mountain bighorn sheep range. There is a potential risk of physical contact occurring between the domestic sheep and bighorn sheep. Contact between domestic sheep and bighorn sheep would likely be detrimental to the health of the bighorn sheep herd resulting in substantial population declines. There is a need to manage livestock stocking and distribution to reduce the likelihood of contact between domestic and bighorn sheep.

Proposed Action

The Forest Service proposes to continue to permit livestock grazing (sheep) on approximately 98,000 acres within the North End Allotment. Approximately 34,000 acres of the current allotment would be closed as part of this proposal. A maximum of 3,962 ewe/lamb pairs would be authorized within the normal grazing season from June 1 to October 9.

Possible Alternatives

Alternatives will include the proposed action, no action, and additional alternatives that respond to issues generated during the scoping process. The agency will give notice of the full environmental analysis and decision-making process so interested and affected people may participate and contribute to the final decision.

Responsible Official

Walla Walla District Ranger.

Nature of Decision To Be Made

The responsible official will decide:

(1) Whether livestock grazing should occur, and if so, how much, when and where.

(2) What monitoring and mitigation measures should be taken or are needed.

Preliminary Issues

Preliminary issues identified include the potential effects of the proposed action on disease transmission to Wenaha bighorn sheep herd, First foods, a potential South Fork Walla Walla River Bighorn Sheep release site, and livestock management.

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

Dated: December 16, 2009.
Michael Rassbach,
District Ranger.

[FR Doc. E9-30566 Filed 12-23-09; 8:45 am]

BILLING CODE P